DEPARTMENT OF DEFENSE

Department of the Air Force

[AFIT JOA 2025-01]

Notice of Intent To Grant a Joint Ownership Agreement With an Exclusive Patent License

AGENCY: Department of the Air Force, Department of Defense.

ACTION: Notice of intent.

SUMMARY: Pursuant to the Bayh-Dole Act and implementing regulations, the Department of the Air Force hereby gives notice of its intent to grant a joint ownership agreement with an Exclusive Patent License to SkyHigh Ventures, LLC, a limited liability company having a place of business at 123 Summer Place, Gibsonia, PA 15044-8907.

DATES: Written objections must be filed no later than fifteen (15) calendar days after the date of publication of this Notice.

ADDRESSES: Submit written objections to Karleine M. Justice, Air Force Institute of Technology (AFIT) Office of Research and Technology Applications (ORTA), 2950 Hobson Way, Bldg. 641, Rm. 101C, Wright-Patterson AFB, OH 45433-7765.

FOR FURTHER INFORMATION CONTACT: Karleine M. Justice, AFIT Office of Research and Technology Applications (ORTA), 2950 Hobson Way, Bldg. 641, Rm. 101C, Wright-Patterson AFB, OH 45433-7765; Phone: (937) 656-0754; or Email: karleine.justice.1@us.af.mil. Include Docket No. AFIT JOA 2025-01 in the subject line of the message.

SUPPLEMENTARY INFORMATION:

Abstract of Patent Application(s)

A computer-implemented system and method generate personalized text based on statistics derived from input received from a user representing the user's attempts to decode graphemes into phonemes. Such statistics may be measured and recorded at the grapheme-phoneme level, and may include substitutions, insertions, deletions, and correct utterances of phonemes by the user when reading text. A language model may be trained based on characteristics of the user, such as the user's age and/or reading grade level, and the personalized text may be generated after such training of the language model. Generating the personalized text may include generating a text creation prompt based on the statistics. The resulting text creation prompt may include a set of target words. The text creation prompt may be provided to the language model, which may generate the personalized text in response. The personalized text may include some or all of the target words.

Intellectual Property

U.S. Application Serial No. 18/659,230, filed on May 9, 2024, and entitled “Computer-Automated Systems and Methods for Using Language Models to Generate Text Based on Reading Errors”.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2025-14461 Filed 7-30-25; 8:45 am]

BILLING CODE 3911-44-P